FEDERAL COMMUNICATIONS COMMISSION

47 CFR Part 64

[CG Docket No. 03-123 and WC Docket No. 05-196; FCC 08-151]

Telecommunications Relay Services and Speech-to-Speech Services for Individuals With Hearing and Speech Disabilities; E911 Requirements for IP-Enabled Service Providers

AGENCY: Federal Communications Commission.

ACTION: Final rule; announcement of effective date.

SUMMARY: In this document, the Commission announces that the Office of Management and Budget (OMB) has approved, for a period of three years, the information collection associated with the Commission's Telecommunications Relay Services and Speech-to-Speech Services for Individuals with Hearing and Speech Disabilities; E911 Requirements for IP-Enabled Service Providers, Report and Order and Further Notice of Proposed Rulemaking, FCC 08-151 (Report and Order). This notice is consistent with the Report and Order, which stated that the Commission would publish a document in the Federal Register announcing the effective date of the rules.

DATES: 47 CFR 64.605(a) and (b), and 64.611(a), (b), (c) and (f), published at 73 FR 41286, July 18, 2008, are effective November 24, 2008.

FOR FURTHER INFORMATION CONTACT: Heather Hendrickson, Competition Policy Division, Wireline Competition Bureau, at (202) 418-7295.

SUPPLEMENTARY INFORMATION: This document announces that, on November 14, 2008, OMB approved, for a period of three years, the information collection requirements contained in the Commission's Report and Order, FCC 08-151, published at 73 FR 41286, July 18, 2008. The OMB Control Number is 3060-1089. The Commission publishes this notice as an announcement of the effective date of the rules. If you have any comments on the burden estimates listed below, or how the Commission can improve the collections and reduce any burdens caused thereby, please contact Cathy Williams, Federal Communications Commission, Room 1-C823, 445 12th Street, SW., Washington, DC 20554. Please include the OMB Control Number, 3060-1089, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on November 14, 2008, for the information collection requirements contained in the Commission's rules at 47 CFR 64.605(a) and (b), and 47 CFR 64.611(a), (b), (c) and (f). The OMB Control Number is 3060-1089. The total annual reporting burden for respondents for these collections of information, including the time for gathering and maintaining the collection of information, is estimated to be: 11 respondents, 1,680,044 responses, total annual burden hours of 98,616 hours, and $4,224,346 in total annual costs.

Under 5 CFR part 1320, an agency may not conduct or sponsor a collection of information unless it displays a current, valid OMB Control Number.

No person shall be subject to any penalty for failing to comply with a collection of information subject to the Paperwork Reduction Act, which does not display a current, valid OMB Control Number.

The foregoing notice is required by the Paperwork Reduction Act of 1995, Public Law 104-13, October 1, 1995, and 44 U.S.C. 3507.

Federal Communications Commission.
Marlene H. Dortch,
Secretary.

[FR Doc. E8-27854 Filed 11-21-08; 8:45 am]

BILLING CODE 6712-01-P